ENVIRONMENTAL PROTECTION AGENCY

[EPA-HQ-OPPT-2021-0414; FRL-9345-01-OCSPP]

Science Advisory Committee on Chemicals (SACC); Notice of Public Meeting and Request for Comments on Draft Toxic Substances Control Act (TSCA) Systematic Review Protocol

AGENCY: Environmental Protection Agency (EPA).

ACTION: Notice.

SUMMARY: There will be a 3-day peer review virtual public meeting of the Science Advisory Committee on Chemicals (SACC) to consider and review the draft TSCA Systematic Review Protocol. In addition, EPA is announcing the availability of and soliciting public comments on the draft protocol. The draft protocol is based on a revised, generic approach to systematic review accounting for comments from prior SACC reviews of chemical risk evaluations and more recent recommendations from the National Academies of Sciences, Engineering, and Medicine (NASEM).

DATES:

Peer Review Virtual Public Meeting: Will be held on April 19-21, 2022, from 10:00 a.m. to approximately 5:00 p.m. (EDT). See the additional details and instructions for registration that appear in Unit III.

Written Comments: Submit your written comments on or before February 18, 2022. As described in Unit III., you may also register to make oral comments during the virtual public meeting.

Special accommodations: Requests for special accommodations should be submitted on or before April 4, 2022, to allow EPA time to process these requests.

ADDRESSES:

Peer Review Virtual Meeting: You must register online to receive the webcast meeting link and audio teleconference information. Please follow the registration instructions that will be announced on the SACC website at https://www.epa.gov/tsca-peer-review by early March 2022. For additional instructions related to this meeting, see Unit III.

Written Comments: Submit written comments, identified by docket identification (ID) number EPA-HQ-OPPT-2021-0414, through the Federal eRulemaking Portal at http://www.regulations.gov. Follow the online instructions for submitting comments. Do not electronically submit any information you consider to be Confidential Business Information (CBI) or other information whose disclosure is restricted by statute. Copyrighted material will not be posted without explicit permission of the copyright holder. Members of the public should also be aware that their personal contact information, if included in any written comments, may be posted on the internet at https://www.regulations.gov. Additional information on commenting or visiting the docket, along with more information about dockets generally, is available at https://www.epa.gov/dockets.

Due to public health concerns related to COVID-19, the EPA Docket Center and Reading Room are open to the public by appointment only. For further information on the EPA Docket Center (EPA/DC) services, docket contact information and the current status of the EPA/DC and Reading Room, please visit https://www.epa.gov/dockets. For questions about this docket, you may also contact the Designated Federal Official (DFO) listed under FOR FURTHER INFORMATION CONTACT.

Special accommodations: For information on access or services for individuals with disabilities, and to request accommodation for a disability, please contact the DFO listed under FOR FURTHER INFORMATION CONTACT.

FOR FURTHER INFORMATION CONTACT: Dr. Todd Peterson, DFO, Office of Chemical Safety and Pollution Prevention (7201M), Environmental Protection Agency, 1200 Pennsylvania Ave. NW, Washington, DC 20460-0001; telephone number: (202) 564-8450; email address: peterson.todd@epa.gov.

SUPPLEMENTARY INFORMATION:

I. Executive Summary

A. Does this action apply to me?

This action is directed to the public in general. This action may be of interest to persons who are or may be required to conduct testing and those interested in risk evaluations of chemical substances under TSCA. Since other entities may also be interested in this action, the EPA has not attempted to describe all the specific entities that may be affected by this action.

B. Where can I access information about the SACC and this meeting?

Information about the SACC and this meeting is available on the SACC website at https://www.epa.gov/tsca-peer-review and in the docket for this meeting, identified by docket ID number EPA-HQ-OPPT-2021-0414, at https://www.regulations.gov. You may also subscribe to the following listserv for alerts when notices regarding this and other SACC related activities are published: https://public.govdelivery.com/accounts/USAEPAOPPT/subscriber/new?topic_id=USAEPAOPPT.

C. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see Tips for Effective Comments at https://www.epa.gov/dockets.

II. Background

A. What is the purpose of the SACC?

The SACC was established by EPA in 2016 and operates in accordance with the Federal Advisory Committee Act (FACA), 5 U.S.C. Appendix 2 et seq. The SACC provides expert independent scientific advice and consultation to the EPA on the scientific and technical aspects of risk assessments, methodologies, and pollution prevention measures and approaches for chemicals regulated under TSCA.

The SACC is comprised of experts in: Toxicology; Human health and environmental risk assessment; Exposure assessment; and Related sciences (e.g., synthetic biology, pharmacology, biotechnology, nanotechnology, biochemistry, biostatistics, physiologically based pharmacokinetic [PBPK] modeling, computational toxicology, epidemiology, environmental fate, and environmental engineering and sustainability). When needed, the committee members will be assisted in their reviews by consultants with specific expertise in the topics under consideration.

B. What is the purpose of peer review of the draft TSCA systematic review protocol?

The draft TSCA Systematic Review Protocol includes a revised generic approach for TSCA-related approaches accounting for previous peer review comments from SACC reviews of risk evaluations on the first 10 chemical assessments and more recent recommendations from the NASEM review of the Application of Systematic Review in TSCA Risk Evaluations. In addition to the revised, generic approach, this peer review package will include appendices containing chemical specific information that is relevant for search strings and screening statements and data evaluation criteria for the next chemical risk evaluations being conducted by the Office of Pollution Prevention and Toxics (OPPT).

C. How can I access the SACC documents?

EPA's background documents, related supporting materials, and draft charge questions to the SACC are available on the SACC website and in the docket established for this meeting are available at https://www.regulations.gov; docket ID number EPA-HQ-OPPT-2021-0414. In addition, EPA will provide additional background documents (e.g., SACC members and consultants participating in this meeting and the meeting agenda) as the materials become available. You may obtain electronic copies of these documents, and certain other related documents that might be available, in the docket at https://www.regulations.gov and the SACC website at https://www.epa.gov/tsca-peer-review.

After the public meeting, the SACC will prepare meeting minutes summarizing its recommendations to the EPA. The meeting minutes will be posted on the SACC website and in the relevant docket.

III. Public Participation Instructions

To participate in the peer review virtual public meeting, please follow the instructions in this unit.

A. How can I provide comments?

To ensure proper receipt of comments it is imperative that you identify docket ID number EPA-HQ-OPPT-2021-0414 in the subject line on the first page of your request.

1. Written comments. The Agency encourages written comments for the peer review public meeting be submitted using the instructions in ADDRESSES and Unit I.B. and C, on or before the date set in the DATES section. Anyone submitting written comments after this date should contact the DFO listed under FOR FURTHER INFORMATION CONTACT. If you submit comments after the date set in the DATES section, those comments will be provided to the SACC members.

2. Oral comments. The Agency encourages each individual or group wishing to make brief oral comments to the SACC during the peer review virtual public meeting to please follow the registration instructions that will be announced on the SACC website by early March 2022 (https://www.epa.gov/tsca-peer-review).

Oral comments before the SACC during the peer review virtual public meeting are limited to 5 minutes unless arrangements have been made prior to the date set in the DATES section. In addition, each speaker should email a copy of his/her comments to the DFO prior to the meeting for distribution to the SACC by the DFO.

B. How can I participate in the virtual public meeting?

This meeting will be virtual and viewed via webcast. For information on how to first register and then view the webcast, please refer to the SACC website at https://www.epa.gov/tsca-peer-review. EPA intends to announce registration instructions on the SACC website by early March 2022.

Authority: 15 U.S.C. 2601 et seq.

Dated: December 14, 2021.
Michal Freedhoff,
Assistant Administrator, Office of Chemicals Safety and Pollution Prevention.

[FR Doc. 2021-27437 Filed 12-17-21; 8:45 am]

BILLING CODE 6560-50-P